Title 3—

The President

Executive Order 13728 of May 18, 2016

Wildland-Urban Interface Federal Risk Mitigation

By the authority vested in me as President by the Constitution and the laws of the United States of America, and to improve the Nation's resilience to wildfire, I hereby direct the following:

Section 1. Policy. It is the policy of the United States to strengthen the security and resilience of the Nation against the impacts of wildfire. The annual estimates on structure loss due to wildfire have increased dramatically over the past six decades as a result of multi-year drought conditions in combination with accumulated fuel loads, growing populations residing in the wildland-urban interface, and associated increases in the exposure of built environments. As such, we must continue to ensure our Nation is resilient to wildfire in order to promote public safety, economic strength, and national security.

The Federal Government must continue to take proactive steps to enhance the resilience of buildings that are owned by the Federal Government and are located on Federal land. Each executive department and agency (agency) responsible for implementing this order shall seek to enhance the resilience of its buildings when making investment decisions to ensure continued performance of essential functions and to reduce risks to its buildings' occupants in the event of a wildfire.

Sec. 2. Codes and Concurrent Requirements. (a) Commencing within 90 days of the completion of the implementing guidelines as described in section 3(b)(i) of this order, each agency shall ensure that every new Federal building above 5,000 gross square feet on Federal land within the wildland-urban interface at moderate or greater wildfire risk for which the agency has not completed design is in compliance with the 2015 edition of the International Wildland-Urban Interface Code (IWUIC) promulgated by the International Code Council (ICC), or an equivalent code, consistent with the provisions of and to the extent required by 40 U.S.C. 3312. When the ICC releases a new version of the IWUIC, a determination shall be made whether the new version is a nationally recognized code for the purposes of 40 U.S.C. 3312(b), as expeditiously as practicable, but not later than 2 years after the release of the new version. If a determination is made that a new version is a nationally recognized code, agencies shall ensure that any Federal building covered by this section for which the agency has not completed design is in compliance with that new version, or an equivalent code, consistent with the provisions of and to the extent required by 40 U.S.C. 3312.

(b) Commencing within 90 days of the completion of the implementing guidelines as described in section 3(b)(i) of this order, each agency responsible for the alteration of an existing Federal building above 5,000 gross square feet on Federal land within the wildland-urban interface at moderate or greater wildfire risk for which the agency has not completed design shall ensure that the alteration is effectuated in compliance with the IWUIC, or an equivalent code, consistent with the provisions of and to the extent required by 40 U.S.C. 3312. When the ICC releases a new version of the IWUIC, a determination shall be made whether the new version is a nationally recognized code for the purposes of 40 U.S.C. 3312(b), as expeditiously as practicable, but not later than 2 years after the release of the new version. If a determination is made that a new version is a nationally recognized code, agencies shall ensure that any Federal building covered by this section for which the agency has not completed design is in compliance with that new version, or an equivalent code, consistent with the provisions of and to the extent required by 40 U.S.C. 3312.

(c) Each agency that owns an existing Federal building above 5,000 gross square feet on Federal land within the wildland-urban interface at moderate or greater wildfire risk is strongly encouraged to ensure that such existing buildings are in compliance with the IWUIC, or an equivalent code.

(d) The heads of agencies whose activities are covered by sections 2(a) and 2(b) of this order shall complete a wildfire risk assessment of their existing Federal buildings above 5,000 gross square feet within the wildland-urban interface and are strongly encouraged to consider creating and maintaining a defensible space in compliance with the IWUIC, or an equivalent code, for each of those buildings they determine to be at highest risk.

(e) Each agency that leases space in a building to be constructed for the predominant use of an agency above 5,000 rentable square feet in the wildland-urban interface in an area of greater than moderate wildfire risk is strongly encouraged to ensure that the building is designed and constructed in accord with the IWUIC, or an equivalent code.

(f) Each agency assisting in the financing, through Federal grants or loans, or guaranteeing the financing, through loan or mortgage insurance premiums, of a newly constructed building or of an alteration of an existing building above 5,000 gross square feet within the wildland-urban interface at moderate or greater wildfire risk shall consider updating its procedures for providing the assistance to be consistent with sections 2(a) and 2(b) of this order, to ensure appropriate consideration of wildfire-resistant design and construction.

(g) To the extent permitted by law, the heads of all agencies may:

(i) require higher performance levels than exist in the codes described in section 2(a) of this order;

(ii) apply the requirements within section 2(a) of this order to new buildings less than 5,000 gross square feet on Federal land within the wildland-urban interface at moderate or greater wildfire risk; and

(iii) apply the requirements within section 2(b) of this order to existing buildings less than 5,000 gross square feet on Federal land within the wildland-urban interface at moderate or greater wildfire risk.

(h) When calculating whether a building is at moderate or greater wildfire risk, agencies should act in accordance with the methods described in the 2015 edition of the IWUIC, or any subsequent version that is determined to be a nationally recognized code for the purposes of 40 U.S.C. 3312(b), or an equivalent code, or in accordance with an equivalent method.

(i) Each building constructed or altered in accordance with section 2(a) or (b) of this order shall comply with the IWUIC, or an equivalent code, only to the maximum extent feasible as determined by the head of an agency.

Sec. 3. Agency Responsibilities. (a) The heads of all agencies that own Federal buildings above 5,000 gross square feet on Federal land within the wildland-urban interface at moderate or greater wildfire risk shall determine the appropriate process within their respective agencies to ensure compliance with this order.

(b) The Mitigation Framework Leadership Group (MitFLG) shall:

(i) create implementing guidelines to advise and assist agency compliance with the code requirements within 240 days of the date of this order;

(ii) provide assistance to the agencies in interpreting the implementing guidelines.

(c) When determining whether buildings are located within the wildland-urban interface, agencies shall use the U.S. Department of Agriculture Forest Service's, “The 2010 Wildland-Urban Interface of the Conterminous United States,” or an equivalent tool. The Secretary of Agriculture shall provide assistance to the agencies in determining whether buildings are located within the wildland-urban interface.

(d) The heads of agencies whose activities are covered by sections 2(a) and 2(b) of this order shall submit a report once every 2 years to the Chair of the MitFLG on their progress in implementing the order, commencing 2 years from the date of this order.

Sec. 4. Definition. As used in this order, “building” means a constructed asset that is enclosed with walls and a roof that provides space for agencies to perform activities or store materials as well as provides spaces for people to live or work.

Sec. 5. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law, including the National Historic Preservation Act of 1966, and subject to the availability of appropriations.

(c) This order applies only to buildings within the United States and its territories and possessions.

(d) This order is not intended to, and does not, create any right or benefit, substantive or procedural, enforceable at law or in equity by any party against the United States, its departments, agencies, or entities, its officers, employees, or agents, or any other person.

THE WHITE HOUSE,

May 18, 2016.

[FR Doc. 2016-12155

Filed 5-19-16; 11:15 am]

Billing code 3295-F6-P